DEPARTMENT OF THE TREASURY

Submission for OMB Review; Comment Request

August 10, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before September 18, 2006 to be assured of consideration.

Internal Revenue Service (IRS)

OMB Number: 1545-0940.

Type of Review: Extension.

Title: Election of $10 Million Limitation on Exempt Small Issues of Industrial Development Bonds; Supplemental Capital Expenditure Statements.

Description: The regulation liberalizes the procedure by which the State or local government issuer of an exempt small issue of tax-exempt bonds elects the $10 million limitation upon the size of such issue and deletes the requirement to file certain supplemental capital expenditure statements.

Respondents: State, local, or tribal governments.

Estimated Total Burden Hours: 1,000 hours.

OMB Number: 1545-0217.

Type of Review: Extension.

Title: Possessions Corporation Tax Credit (Under Sections 936 and 30A), and Schedule P, Allocation of Income and Expenses Under Section 936(h)(5).

Form: 5735.

Description: Form 5735 is used to compute the possessions tax credit under sections 936 & 30A. Schedule P is used by corporations that elect to share the income or expenses with their affiliates. Each form provides the IRS with information to determine if the corporations have correctly computed the tax credit and the cost-share or profit-split method.

Respondents: Business and other for-profit institutions.

Estimated Total Burden Hours: 33,818 hours.

OMB Number: 1545-1816.

Type of Review: Extension.

Title: Disclosure of Returns and Return Information to Designee of Taxpayer.

Description: Regulation section 301.6103(c)-1 generally authorizes the IRS and its agents to disclose returns and return information to such person or persons as the taxpayer may designate in a written request for or consent to disclosure, or to any other person at the taxpayer's written or nonwritten request to the extent necessary to comply with a request for information or assistance made by the taxpayer to such other person. The regulation requires a taxpayer who wishes to authorize disclosure of his or her returns or return information to provide the IRS or its agents with certain information, such as information identifying.

Respondents: Individuals or Households.

Estimated Total Burden Hours: 800 hours.

OMB Number: 1545-1432.

Type of Review: Extension.

Title: Voluntary Customer Surveys to Implement E.O. 12862 Coordinated by the Corporate Planning and Performance Division on Behalf of All IRS Operations Functions.

Description: This is a generic clearance for an undefined number of customer satisfaction and opinion surveys and focus group interviews to be conducted over the next three years. Surveys and focus groups conducted under the generic clearance are used by the Internal Revenue Service to determine levels of customer satisfaction as well as determining issues that contribute to customer burden. This information will be used to make quality improvements to products and services.

Respondents: Business and other for-profit institutions.

Estimated Total Burden Hours: 50,000 hours.

OMB Number: 1545-1833.

Type of Review: Extension.

Title: Revenue Procedure 2003-37, Documentation Provisions for Certain Taxpayers Using the Fair Market Value Method of Interest Expense Apportionment.

Description: Revenue Procedure 2003-37 describes documentation and information a taxpayer that uses the fair market value method of apportionment of interest expense may prepare and make available to the Service upon request in order to establish the fair market value of the taxpayer's assets to the satisfaction of the Commissioner as required by Sec. 1.861-9T(g)(1)(iii). It also sets forth the procedures to be followed in the case of elections to use the fair market value method.

Respondents: Business and other for-profit institutions.

Estimated Total Burden Hours: 625 hours.

OMB Number: 1545-1190.

Type of Review: Extension.

Title: Like-Kind Exchanges.

Form: 8824.

Description: Form 8824 is used by individuals, partnerships, and other entities to report the exchange of business or investment property, and the deferral of gains from such transactions under section 1031. It is also used to report the deferral of gain under section 1043 by members of the executive branch of the Federal government.

Respondents: Individuals or households.

Estimated Total Burden Hours: 834,979 hours.

OMB Number: 1545-1069.

Type of Review: Extension.

Title: Certain Cash or Deferred Arrangements and Employee and Matching Contributions under Employee Plans: REG-108639-99 (NPRM) Retirement Plans; Cash or Deferred Arrangements.

Form: 8824.

Description: The IRS needs this information to insure compliance with sections 401(k), 401(m), and 4979 of the Internal Revenue Code. Certain additional taxes may be imposed if sections 401(k) and 401(m) are not complied with.

Respondents: Businesses or other for-profit institutions.

Estimated Total Burden Hours: 1,060,000 hours.

OMB Number: 1545-1020.

Type of Review: Extension.

Title: Allocation of Estimated Tax Payments to Beneficiaries.

Form: 1041-T.

Description: This form was developed to allow a trustee of a trust or an executor of an estate to make an election under IRC section 643(g) to allocate any payment of estimated tax to a beneficiary(ies). This form serves as a transmittal so that Service Center personnel can determine the correct amounts that are to be transferred from the fiduciary's account to the individual's account.

Respondents: Business or other for-profit institutions.

Estimated Total Burden Hours: 990 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-13610 Filed 8-17-06; 8:45 am]

BILLING CODE 4830-01-P